DEPARTMENT OF HEALTH AND HUMAN SERVICES

[Document Identifier: OS-0990-0281]

Agency Father Generic Information Collection Request; 30-Day Public Comment Request

AGENCY: Office of the Secretary, Health and Human Service, HHS.

ACTION: Notice and request for comments.

SUMMARY: In compliance with the requirement of the Paperwork Reduction Act of 1995, the Office of the Secretary (OS), Department of Health and Human Services, is publishing the following summary of a proposed collection for public comment.

DATES: Comments on the ICR must be received on or before October 21, 2021.

ADDRESSES: Submit your comments to OIRA_submission@omb.eop.gov or via facsimile to (202) 395-5806.

FOR FURTHER INFORMATION CONTACT: Sherrette Funn, Sherrette.Funn@hhs.gov or (202) 795-7714. When requesting information, please include the document identifier 0990-0281-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Prevention Communication Formative Research.

Type of Collection: Extension.

OMB No.: 0990-0281—Office of Disease Prevention and Health Promotion.

Abstract: The Office of Disease Prevention and Health Promotion (ODPHP) is focused on developing and disseminating health information to the public. ODPHP faces an increasingly urgent interest in finding effective ways to communicate health information to America's diverse population. ODPHP strives to be responsive to the needs of America's diverse audiences while simultaneously serving all Americans across a range of channels, from print to new communication technologies. To carry out prevention information efforts, ODPHP is committed to conducting formative and usability research to provide guidance on the development and implementation of their communication and education efforts. The information collected will be used to improve communication, products, and services that support key office activities including: Healthy People, Dietary Guidelines for Americans, Physical Activity Guidelines for Americans, MyHealthfinder, the Move Your Way® Campaign, the President's Council on Sports, Fitness & Nutrition, health literacy and healthy aging. ODPHP communicates through its websites (www.health.gov) and through other channels including social media, print materials, interactive training modules, and reports. This request builds on previous formative research approaches to place more emphasis on Web-based data collection to allow greater geographical diversity among respondents, to decrease respondent burden, and to save government costs. Data collection will be qualitative and quantitative and may include in-depth interviews, focus groups, web-based surveys, omnibus surveys, card sorting, and various forms of usability testing of materials and interactive tools to assess the public's understanding of disease prevention and health promotion content, responses to prototype materials, and barriers to effective use. The program is requesting a 3-year clearance. The type of respondents are consumers and health professionals which will be surveyed on an annual basis.

Estimated Annualized Burden Table
Type of respondent | Number of respondents | Number responses per respondent | Average burden per response (in hours) | Total burden hours
Consumers (screening & omnibus survey) | 7725 | 1 | 10/60 | 1287.5
Consumers (qualitative testing) | 1250 | 1 | 1 | 1250
Consumers (focus groups) | 575 | 1 | 1.5 | 862.5
Consumers (screening & intercepts) | 35250 | 1 | 5/60 | 2937.5
Consumers (survey) | 10000 | 1 | 15/60 | 2500
Consumers (gatekeeper reviews) | 325 | 1 | 30/60 | 162.5
Consumers (cognitive tests) | 50 | 1 | 2 | 100
Health care professionals (screening) | 1350 | 1 | 10/60 | 225
Health care professionals (interview) | 50 | 1 | 1 | 50
Health care professionals (focus group) | 400 | 1 | 1.5 | 600
Total |  |  |  | 9,975

Sherrette A. Funn,
Paperwork Reduction Act Reports Clearance Officer, Office of the Secretary.

[FR Doc. 2021-20324 Filed 9-20-21; 8:45 am]

BILLING CODE 4150-32-P